DEPARTMENT OF JUSTICE

Drug Enforcement Administration

Importer of Controlled Substances; Notice of Application; Clinical Supplies Management, Inc.

Correction

In notice document 2012-19197 appearing on pages 47109-47110 in the issue of Tuesday, August 7, 2012, make the following corrections:

1. On page 47109, in the third column, the document heading should appear as set forth above.

2. On page 47110, in the second column, in the first full paragraph, in the eighth line of text, “September 6, 2012” should read “September 19, 2012”.

[FR Doc. C1-2012-19197 Filed 8-17-12; 8:45 am]

BILLING CODE 1505-01-D